ENVIRONMENTAL PROTECTION AGENCY

40 CFR Part 52

[EPA-R06-OAR-2013-0167; FRL-9962-21-Region 6]

Approval and Promulgation of Implementation Plans; Louisiana; Volatile Organic Compounds Rule Revision and Stage II Vapor Recovery

AGENCY: Environmental Protection Agency (EPA).

ACTION: Withdrawal of direct final rule.

SUMMARY: The Environmental Protection Agency (EPA) is withdrawing a direct final rule published on March 23, 2017 because relevant adverse comments were received. The rule pertained to EPA approval of Louisiana State Implementation Plan (SIP) revisions controlling emissions of volatile organic compounds (VOCs) and changing the Stage II gasoline vapor recovery rule. In a separate subsequent final rulemaking EPA will address the comments received.

DATES: The direct final rule published on March 23, 2017 (82 FR 14822), is withdrawn effective May 22, 2017.

FOR FURTHER INFORMATION CONTACT: Wendy Jacques, (214) 665-7395.

SUPPLEMENTARY INFORMATION: Throughout this document “we,” “us,” and “our” means the EPA. On March 23, 2017, we published a direct final rule approving Louisiana SIP revisions controlling emissions of VOCs and changing the Stage II gasoline vapor recovery rule (82 FR 14822). The direct final rule was published without prior proposal because we anticipated no adverse comments. We stated in the direct final rule that if we received relevant adverse comments by April 24, 2017, we would publish a timely withdrawal in the Federal Register. We received relevant adverse comments and accordingly are withdrawing the direct final rule. In a separate subsequent final rulemaking we will address the comments received.

List of Subjects in 40 CFR Part 52

Environmental protection, Air pollution control, Incorporation by reference, Intergovernmental relations, Ozone, Reporting and recordkeeping requirements, Volatile organic compounds.

Dated: May 17, 2017.
Samuel Coleman,
Acting Regional Administrator, Region 6.

Accordingly, the amendments to 40 CFR 52.970 published in the Federal Register on March 23, 2017 (82 FR 14822), which were to become effective on May 22, 2017, are withdrawn.

[FR Doc. 2017-10485 Filed 5-19-17; 8:45 am]

BILLING CODE 6560-50-P